NATIONAL SCIENCE FOUNDATION

Astronomy and Astrophysics Advisory Committee #13883; Notice of Meeting

In accordance with the Federal Advisory Committee Act (Pub. L. 92-463, as amended), the National Science Foundation announces the following Astronomy and Astrophysics Advisory Committee (#13883) meeting:

Date and Time: September 25, 2012, 1 p.m.-2 p.m.

Place: National Science Foundation, Room 1020, Stafford I Building, 4201 Wilson Blvd., Arlington, VA, 22230.

Type of Meeting: Open.

Contact Person: Dr. Jim Ulvestad, Division Director, Division of Astronomical Sciences, Suite 1045, National Science Foundation, 4201 Wilson Blvd., Arlington, VA 22230. Telephone: 703-292-7165.

Purpose of Meeting: To brief the AAAC on the Portfolio Review report recommendations. The AST portfolio review committee was charged with recommending critical capabilities over the period of 2015 to 2015 with a balance of investments in new and existing grants programs, facilities, and other activities. The briefing will provide the AAAC with information that will assist it in the future in providing its advice to NSF, NASA, and DOE on issues within the field of astronomy and astrophysics that are of mutual interest and concern to the agencies.

Agenda: Brief the AAAC on the Portfolio Review report process and recommendations.

Dated: August 29, 2012.
Susanne Bolton,
Committee Management Officer.

[FR Doc. 2012-21741 Filed 9-4-12; 8:45 am]

BILLING CODE 7555-01-P